DEPARTMENT OF JUSTICE

Antitrust Division

Notice Pursuant to the National Cooperative Research and Production Act of 1993—National Biodiesel Accreditation Commission

Notice is hereby given that, on April 14, 2011, pursuant to Section 6(a) of the National Cooperative Research and Production Act of 1993, 15 U.S.C. 4301 et seq. (“the Act”), National Biodiesel Accreditation Commission (“NBAC”) has filed written notifications simultaneously with the Attorney General and the Federal Trade Commission disclosing additions or changes to its standards development activities. The notifications were filed for the purpose of extending the Act's provisions limiting the recovery of antitrust plaintiffs to actual damages under specified circumstances. Specifically, the NBAC has amended various aspects of its BQ-9000 standard in several ways, including, but not limited to, the following: The Producer Standard now requires reporting of significant process changes; adds more specific requirements for product homogeneity and sampling; codifies several previously informal policies; and implements a weighted ranking system. The Marketer Standard is amended to answer questions about operating multiple facilities; adds an oxidation stability reporting requirement; addresses a marketer functioning as a broker; creates exceptions for blends of 399 and higher; codifies several previously informal policies; implements a weighted ranking system; and adds a provision for external laboratory verification.

On August 27, 2004, NBAC filed its original notification pursuant to Section 6(a) of the Act. The Department of Justice published a notice in the Federal Register pursuant to Section 6(b) of the Act on October 4, 2004 (69 FR 59269).

The last notification was filed with the Department on May 15, 2009. A notice was published in the Federal Register pursuant to Section 6(b) of the Act on July 17, 2009 (74 FR 34788).

Patricia A. Brink,
Director of Civil Enforcement, Antitrust Division.

[FR Doc. 2011-11454 Filed 5-10-11; 8:45 am]

BILLING CODE 4410-11-M